DEPARTMENT OF ENERGY

Federal Energy Regulatory Commission

[Docket No. RP01-470-001]

Trunkline LNG Company; Notice of Proposed Changes in FERC Gas Tariff

July 19, 2001.

Take notice that on July 10, 2001, Trunkline LNG Company (TLNG) tendered for filing as part of its FERC Gas Tariff, Original Volume No. 1-A, the following tariff sheet to be effective August 1, 2001:

Sub Fifth Revised Sheet No. 5

TLNG states that this filing is made to supplement TLNG's filing of June 29, 2001 in the subject docket which was filed in accordance with Section 19 (Fuel Reimbursement Adjustment) and Section 20 (Electric Power Cost Adjustment) of the General Terms and Conditions (GT&C) of TLNG's FERC Gas Tariff, Original Volume No. 1-A. TLNG's June 29, 2001 filing did not change the minimum rate to reflect the proposed August 1, 2001 rate change under Section 20 of the GT&C. The substitute tariff sheet updates the minimum usage rate for service under TLNG's Rate Schedules FTS and ITS to correspond with the rate change filed on June 29, 2001 in the subject docket.

TLNG states that copies of this filing are being served on all affected customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18505 Filed 7-24-01; 8:45 am]

BILLING CODE 6717-01-P